DEPARTMENT OF COMMERCE

National Oceanic and Atmospheric Administration

[RTID 0648-XD975]

Pacific Fishery Management Council; Public Meetings

AGENCY: National Marine Fisheries Service (NMFS), National Oceanic and Atmospheric Administration (NOAA), Commerce.

ACTION: Notice of public meetings.

SUMMARY: The Pacific Fishery Management Council (Council) and its advisory bodies will meet June 7-13, 2024 in San Diego, CA and via webinar. The Council meeting will be live streamed with the opportunity to provide public comment remotely. The following groups will meet in person in San Diego: Habitat Committee, Scientific and Statistical Committee, Groundfish Management Team, Groundfish Advisory Subpanel, Budget Committee, Legislative Committee, Equity and Environmental Justice Committee, Highly Migratory Species Advisory Subpanel, Highly Migratory Species Management Team, and Enforcement Consultants. The Salmon Advisory Subpanel will meet remotely. Additionally, the Council will be hosting the Highly Migratory Species Workshop on June 6-7, 2024.

DATES: The Highly Migratory Species Workshop will take place on June 6 and 7, starting at 9 a.m., Pacific time (PT) each day and continuing until business for the day is complete. The Pacific Council meeting will begin on Saturday, June 8, 2024, at 10 a.m. PT, reconvening at 8 a.m. on Sunday, June 9 through Thursday, June 13, 2024. All meetings are open to the public, except for a Closed Session held from 8 a.m. to 10 a.m., Saturday, June 8 to address litigation and personnel matters. The Pacific Council will meet as late as necessary each day to complete its scheduled business.

ADDRESSES: The Highly Migratory Species Workshop and meetings of the Pacific Council and its advisory entities will be held at the Doubletree by Hilton San Diego—Mission Valley, 7450 Hazard Center Drive, San Diego, CA; telephone: (619) 297-5466. Specific meeting information, including directions on joining the meeting, connecting to the Council meeting live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The Highly Migratory Species Workshop will take place in person on June 6 and 7, starting at 9 a.m. PT each day and continuing until business for the day is complete. The June 7-13, 2024 meeting of the Pacific Council will take place in person and also be streamed live on the internet. The broadcasts begin initially at 10 a.m. PT Saturday, June 8, and 8 a.m. Sunday, June 9 through Thursday, June 13, 2024. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Pacific Council to transmit a proposed fishery management plan, proposed plan amendment, or proposed regulations to the U.S. Secretary of Commerce, under sections 304 or 305 of the Magnuson-Stevens Fishery Conservation and Management Act. Additional detail on agenda items, Council action, and advisory entity meeting times, are described in Agenda Item A.3, Proposed Council Meeting Agenda, and will be in the advance June 2024 briefing materials and posted on the Pacific Council website at www.pcouncil.org no later than Friday, May 17, 2024.

A. Call to Order

1. Opening Remarks

2. Roll Call

3. Agenda

4. Executive Director's Report

B. Open Comment Period

1. Comments on Non-Agenda Items

C. Administrative Matters

1. Council Coordination Committee Update

2. Council Operations and Priorities

3. Legislative Matters

4. Fiscal Matters

5. Approval of Council Meeting Records

6. Membership Appointments and Council Operating Procedures—2025-27 Advisory Body Composition and Respectful Workplace Policies

7. Future Council Meeting Agenda and Workload Planning

D. Habitat Issues

1. Current Habitat Issues

E. Salmon Management

1. Sacramento River Fall Chinook Workgroup—Progress Report

2. Queets River Spring/Summer Chinook Rebuilding Plan—Progress Report

F. Groundfish Management

1. National Marine Fisheries Service Report

2. Monterey Bay National Marine Sanctuary Coral Research and Restoration Closures—Fishery Management Plan (FMP) Amendment Final Action

3. Final Stock Assessment Plan and Terms of Reference

4. Stock Definitions for Species Assessed in 2025 and 2027—Range of Alternatives

5. Fixed Gear Marking and Entanglement Risk Reduction—Final Action

6. 2025-26 Harvest Specifications, Management Measures, and Exempted Fishing Permits—Fishery Management Plan Amendment Final Action

7. Inseason Management—Final Action

H. Cross Fishery Management Plan (FMP)

1. Marine Planning

2. NMFS Regional Equity and Environmental Justice (EEJ) Plan and EEJ Committee—Update

I. Coastal Pelagic Species Management

1. Stock Assessment Terms of Reference and Accepted Practices—Final Action

Workshop and Advisory Body Agendas

The Highly Migratory Species Workshop and Advisory body agendas will include discussions of relevant issues that are on the Pacific Council agenda for this meeting and may also include issues that may be relevant to future Pacific Council meetings. Proposed agendas for these meetings will be available on the Pacific Council website, www.pcouncil.org, no later than Friday, May 17, 2024.

Schedule of Ancillary Meetings

June 6-7, 2024

Highly Migratory Species Workshop 9 a.m.

Day 1—Friday, June 7, 2024

Groundfish Advisory Subpanel 1 p.m.

Groundfish Management Team 1 p.m.

Habitat Committee 8 a.m.

Salmon Advisory Subpanel (Online) 8 a.m.

Scientific and Statistical Committee 8 a.m.

Legislative Committee 10 a.m.

Budget Committee 1 p.m.

Equity and Environmental Justice Committee 1 p.m.

Enforcement Consultants 2 p.m.

Day 2—Saturday, June 8, 2024

California State Delegation 7 a.m.

Oregon State Delegation 7 a.m.

Washington State Delegation 7 a.m.

Groundfish Advisory Subpanel 8 a.m.

Groundfish Management Team 8 a.m.

Habitat Committee 8 a.m.

Highly Migratory Species Advisory Subpanel 8 a.m.

Highly Migratory Species Management Team 8 a.m.

Scientific and Statistical Committee 8 a.m.

Enforcement Consultants 8 a.m.

Day 3—Sunday, June 9, 2024

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants As Necessary

Day 4—Monday, June 10, 2024

California State Delegation 7 a.m.

Oregon State Delegation 7 a.m.

Washington State Delegation 7 a.m.

Groundfish Advisory Subpanel 8 a.m.

Groundfish Management Team 8 a.m.

Enforcement Consultants As Necessary

Day 5—Tuesday, June 11, 2024

California State Delegation 7 a.m.

Oregon State Delegation 7 a.m.

Washington State Delegation 7 a.m.

Groundfish Advisory Subpanel 8 a.m.

Groundfish Management Team 8 a.m.

Enforcement Consultants (Online) As Necessary

Day 6—Wednesday, June 12, 2024

California State Delegation 7 a.m.

Oregon State Delegation 7 a.m.

Washington State Delegation 7 a.m.

Enforcement Consultants (Online) As Necessary

Day 7—Thursday, June 13, 2024

California State Delegation 7 a.m.

Oregon State Delegation 7 a.m.

Washington State Delegation 7 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: May 16, 2024.
Rey Israel Marquez,
Acting Deputy Director, Office of Sustainable Fisheries, National Marine Fisheries Service.

[FR Doc. 2024-11146 Filed 5-20-24; 8:45 am]

BILLING CODE 3510-22-P